DEPARTMENT OF COMMERCE

National Oceanic and Atmospheric Administration

RIN: 0648-XI95

Gulf of Mexico Fishery Management Council; Public Meeting

AGENCY: National Marine Fisheries Service (NMFS), National Oceanic and Atmospheric Administration (NOAA), Commerce.

ACTION: Notice of a public meeting.

SUMMARY: The Gulf of Mexico Fishery Management Council will convene a joint meeting of the Standing and Special Reef Fish Scientific and Statistical Committees (SSCs).

DATES: The Joint Standing and Special Reef Fish SSC meeting will begin at 1:30 p.m. on Wednesday, July 30, 2008 and conclude by 4 p.m. on Thursday, July 31, 2008.

ADDRESSES: The meeting will be held at the Quorum Hotel, 700 N. Westshore Blvd., Tampa, FL 33609; telephone: (813) 289-8200.

Council address: Gulf of Mexico Fishery Management Council, 2203 North Lois Avenue, Suite 1100, Tampa, FL 33607.

FOR FURTHER INFORMATION CONTACT: Steven Atran, Population Dynamics Statistician; Gulf of Mexico Fishery Management Council; telephone: (813) 348-1630.

SUPPLEMENTARY INFORMATION: The Joint Standing and Special Reef Fish SSC will meet to develop recommendations for a prioritized five year Gulf of Mexico research plan for submission to the Secretary of Commerce. The SSC will also review the terms of reference for several upcoming stock assessments including SEDAR benchmark (full) assessments on red drum and black grouper, and SEDAR update assessments for red snapper, greater amberjack, gag, and red grouper. In addition, the SSC will review the proposed annual catch limit (ACL) guidelines, and will discuss the future role of the SSC under SEDAR and ACL guidelines.

Copies of the agenda and other related materials can be obtained by calling (813) 348-1630.

Although other non-emergency issues not on the agenda may come before the SSCs for discussion, in accordance with the Magnuson-Stevens Fishery Conservation and Management Act (Magnuson-Stevens Act), those issues may not be the subject of formal action during this meeting. Actions of the SSCs will be restricted to those issues specifically identified in the agenda and any issues arising after publication of this notice that require emergency action under Section 305(c) of the Magnuson-Stevens Act, provided the public has been notified of the Council's intent to take action to address the emergency.

Special Accommodations

This meeting is physically accessible to people with disabilities. Requests for sign language interpretation or other auxiliary aids should be directed to Tina O'Hern at the Council (see ADDRESSES) at least 5 working days prior to the meeting.

Dated: July 3, 2008.
Tracey L. Thompson,
Acting Director, Office of Sustainable Fisheries, National Marine Fisheries Service.

[FR Doc. E8-15588 Filed 7-8-08; 8:45 am]

BILLING CODE 3510-22-S